DEPARTMENT OF LABOR

Employment and Training Administration

Proposed Collection of the ETA 5159, Claims and Payment Activities; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the collection of the ETA 5159, Claims and Payment Activities. A copy of the proposed information collection request (ICR) can be obtained by contacting the office listed below in the addressee section of this notice.

DATES: Written comments must be submitted to the office listed in the addressee section below on or before March 6, 2006.

ADDRESSES: Subri Raman, U.S. Department of Labor, Employment and Training Administration, Room S-4231, 200 Constitution Ave., NW., Washington, DC 20210; telephone number (202) 693-3058; fax (202) 693-3229 (these are not toll free numbers). E-mail: raman.subri@dol.gov. Copies of the Paperwork Reduction Act Submission Package are at this Web site: http://www.doleta.gov/Performance/guidance/OMBControlNumber.cfm.

SUPPLEMENTARY INFORMATION:

I. Background

The ETA 5159 report contains information on claims activities including the number of initial claims, first payments, weeks claimed, weeks compensated, benefit payments and final payments. These data are used in budgetary and administrative planning, program evaluation, actuarial and program research, and reports to Congress and the public.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Actions

This is a request for OMB approval under the Paperwork Reduction Act of 1995 (44 U.S.C. 3506(c)(2)(A)) for continuing an existing collection of information previously approved and assigned OMB Control No. 1205-0010.

Type of Review: Extension.

Agency: Employment and Training Administration.

Title: Claims and Payment Activities.

OMB Number: 1205-0010.

Agency Number: ETA 5159.

Affected Public: State Government.

Cite/Reference/Form/etc: ETA 5159.

Total Respondents: 53.

Frequency: Monthly.

Total Responses: 720.

Average Time per Response: 2.6 hours.

Estimated Total Burden Hours: 1359 hours per year.

Total Burden Cost (capital/startup): $0.

Total Burden Cost (operating/maintaining): $0.

Comments submitted in response to this comment request will be summarized and/or included in the request for Office of Management and Budget approval of the information collection request; they will also become a matter of public record.

Dated: December 22, 2005.
Cheryl Atkinson,
Administrator Office of Workforce Security.

[FR Doc. E5-8233 Filed 1-3-06; 8:45 am]

BILLING CODE 4510-30-P